DEPARTMENT OF HEALTH AND HUMAN SERVICES

Health Resources and Services Administration

Advisory Committee on Organ Transplantation

AGENCY: Health Resources and Services Administration (HRSA), HHS.

ACTION: Notice of ACOT Meeting to be held by Conference Call.

SUMMARY: The Advisory Committee on Organ Transplantation (ACOT) will be conducting a conference call to discuss the revision of the Uniform Anatomical Gift Act (UAGA).

DATES: The conference call will be held on January 26, 2007, at 12 noon to 1 p.m. EST. Participants must dial: (888) 946-7610 and enter the corresponding pass code 30431. For security reasons, the pass code 30431 and Remy Aronoff's name, as call leader, are required to join the call. Participants should call no later than 11:50 a.m. EST in order for the logistics to be set up. Participants are asked to register for the conference by contacting Diane Cheslosky at (301) 443-6839 or e-mail diane.cheslosky@hrsa.hhs.gov. The registration deadline is January 24, 2007. The Department will try to accommodate those wishing to participate in the call.

Any member of the public can submit written materials that will be distributed to Committee members prior to the conference call. Parties wishing to submit written comments should ensure that the comments are postmarked or e-mailed no later than January 24, 2007, for consideration. Comments should be submitted to Remy Aronoff, Executive Secretary, ACOT, Healthcare Systems Bureau, HRSA, Parklawn Building, Room 12C-06, 5600 Fishers Lane, Rockville, Maryland 20857; telephone (301) 443-3264; fax (301) 594-6095; or e-mail: remy.aronoff@hrsa.hhs.gov.

Members of the public can present oral comments during the conference call during the public comment period. If a member of the public wishes to speak, the Department should be notified at the time the participant registers. Other members of the public will be allocated time if time permits.

FOR FURTHER INFORMATION CONTACT: Remy Aronoff, Executive Secretary, ACOT, Healthcare Systems Bureau, HRSA, Parklawn Building, Room 12C-06, 5600 Fishers Lane, Rockville, Maryland 20857; telephone (301) 443-3264; fax (301) 594-6095; or e-mail: remy.aronoff@hrsa.hhs.gov.

SUPPLEMENTARY INFORMATION: The UAGA is a model law drafted by the National Conference of Commissioners on Uniform State Laws in an effort to achieve uniformity among the anatomical gift laws of the States. Three ACOT recommendations provided a stimulus for revising the UAGA. In particular, recommendation number 10 (recommendation to engage in legislative strategies to encourage medical examiners not to withhold life-saving organs); recommendation number 19 (recommendation to take steps to ensure that the donors' wishes are fulfilled); and recommendation number 20 (recommendation that the State update the law governing anatomical gifts). The initial UAGA was written in 1968.

The purpose of this call is to hear discussion from the ACOT members and, if the Committee chooses, to develop a recommendation from the ACOT to the Secretary concerning the revised UAGA.

Dated: January 3, 2007.
Elizabeth M. Duke,
Administrator.

[FR Doc. E7-212 Filed 1-10-07; 8:45 am]

BILLING CODE 4165-15-P